COMMITTEE FOR PURCHASE FROM PEOPLE WHO ARE BLIND OR SEVERELY DISABLED
Redesignation of Services; Correction
In the document appearing on page 2565, FR Doc 04-1029, in the issue of January 16, 2004, in the first and second columns, the Committee published a redesignation of services currently on the Procurement List for Janitorial/Custodial, Johnstown, Pennsylvania. The name of the Nonprofit Agency associated with this redesignation was misspelled. It should read Goodwill Industries of the Conemaugh Valley, Inc., Johnstown, Pennsylvania.

Sheryl D. Kennerly,
Director, Information Management.

[FR Doc. 04-1993 Filed 1-29-04; 8:45 am]
BILLING CODE 6353-01-P